DEPARTMENT OF AGRICULTURE

Animal and Plant Health Inspection Service

7 CFR Part 301

[Docket No. APHIS-2019-0035]

RIN 0579-AE62

Domestic Quarantine: Quarantined Areas and Regulated Articles; Technical Amendment

AGENCY: Animal and Plant Health Inspection Service, Department of Agriculture (USDA).

ACTION: Final rule; technical amendment.

SUMMARY: In a final rule published in the Federal Register on December 29, 2022, and effective on January 30, 2023, we amended the regulations governing domestic quarantines for various plant pests by removing lists of quarantined areas and regulated articles from the regulations in order to maintain these lists on web pages maintained by the Agency. However, in the regulations governing black stem rust, we incorrectly stated that the web page listing articles determined to be rust-resistant only listed species and varieties of the genus Berberis, rather than species and varieties of the genera Berberis, Mahoberberis, and Mahonia. Therefore, we are amending the paragraph to correct the omission.

DATES: Effective April 4, 2024.

FOR FURTHER INFORMATION CONTACT: Ms. Lynn Evans-Goldner, National Policy Manager, Office of the Deputy Administrator, PPQ, APHIS, 4700 River Road, Unit 137, Riverdale, MD 20737; (301) 851-2286; lynn.evans-goldner@usda.gov.

SUPPLEMENTARY INFORMATION: In a final rule ¹ that was published in the Federal Register on December 29, 2022 (87 FR 80002), and effective on January 30, 2023, we amended the regulations governing domestic quarantines for various plant pests by removing lists of quarantined areas and regulated articles from the regulations in order to maintain these lists on web pages maintained by the Agency. One of the affected subparts was “Subpart D—Black Stem Rust” (7 CFR 301.38 through 301.38-8). Section 301.38-2(b) correctly states that species and varieties of the genera Berberis, Mahoberberis, and Mahonia are regulated articles. However, in § 301.38-2(a), which provides the web page where regulated articles are listed, we inadvertently excluded the genera Mahoberberis and Mahonia, incorrectly implying that the list on the web page is limited to species of Berberis. This document corrects that error.

¹ To view the final rule and supporting documents, go to: https://www.regulations.gov/document/APHIS-2019-0035-0002.

List of Subjects in 7 CFR Part 301

Agricultural commodities, Plant diseases and pests, Quarantine, Reporting and recordkeeping requirements, Transportation.

Accordingly, we amend 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

§ 301.38-2 [Amended]

2. Amend § 301.38-2, in paragraph (a), by adding the words “, Mahoberberis, and Mahonia” after the word “Berberis” in the first sentence.

Done in Washington, DC, this 28th day of March 2024.
Donna Lalli,
Acting Administrator, Animal and Plant Health Inspection Service.

[FR Doc. 2024-07038 Filed 4-3-24; 8:45 am]

BILLING CODE 3410-34-P